DEPARTMENT OF DEFENSE

Office of the Secretary

32 CFR Part 199

RIN 0720-AA57

Civilian Health and Medical Program of the Uniformed Services (CHAMPUS); Methodology for Coverage of Phase II and Phase III Clinical Trials Sponsored by the National Institutes of Health

AGENCY: Department of Defense.

ACTION: Final rule; withdrawal.

SUMMARY: The Department of Defense published a final rule on Methodology for Coverage of Phase II and Phase III Clinical Trials Sponsored by the National Institutes of Health. This rule should not have been published in accordance with the Regulatory Review Plan, therefore, this document is published to withdraw the rule.

DATES: The rule published on Wednesday, January 31, 2001 at 66 FR 8365 is withdrawn as of February 7, 2001.

FOR FURTHER INFORMATION CONTACT: Patricia Collins, 703-681-0039

Dated: January 30, 2001.
L.M. Bynum,
Alternate OSD Federal Register Liaison, Department of Defense.

[FR Doc. 01-3034 Filed 2-6-01; 8:45 am]

BILLING CODE 5001-10-M